DEPARTMENT OF TRANSPORTATION

Federal Aviation Administration

14 CFR Part 39

[Docket No. FAA-2012-0033; Directorate Identifier 2011-NM-086-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A310 series airplanes. This proposed AD was prompted by a report of an electrical arc and hydraulic haze in the wheel bay of the left-hand main landing gear (MLG) possibly resulting from chafing between the hydraulic high pressure hose and electrical wiring of the green electrical motor pump (EMP). This proposed AD would require prohibiting in-flight use of the green EMPs; revising the airplane flight manual (AFM) limitations section; installing a placard in the cockpit overhead panel; doing a one-time general visual inspection for correct condition and installation of hydraulic pressure hoses, electrical conduits, feeder cables, and associated clamping devices; and corrective action if necessary. We are proposing this AD to detect and correct chafing of hydraulic pressure hoses and electrical wiring of the green EMPs, which in combination with a system failure, could cause an uncontrolled and undetected fire in the MLG bay.

DATES: We must receive comments on this proposed AD by March 5, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; email: account.airworth-eas@airbus.com; Internet http://www.airbus.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2012-0033; Directorate Identifier 2011-NM-086-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0071, dated April 18, 2011 (referred to after this as “the MCAI”), to correct an unsafe condition for the specified products. The MCAI states:

An operator reported an electrical arc and a large hydraulic haze in the left hand Main Landing Gear (LH MLG) wheel bay that occurred during ground operation. The analysis revealed that this occurrence is likely the result of chafing between hydraulic high pressure hose and electrical wiring of the Green Electrical Motor Pump (EMP).

This condition, if not detected and corrected, and in combination with a system failure leading to the use of the Green EMPs in flight, could lead to an uncontrolled and undetected fire in the MLG bay.

For the reasons explained above, this AD temporarily prohibits the in-flight use of green EMPs, by mandating an update of the Aeroplane Flight Manual (AFM) limitations section and installation of a placard in the cockpit overhead panel. This [EASA] AD requires also a one-time [general] visual inspection of hydraulic pressure hoses and electrical wiring of Green EMPs and corrective action(s), depending on findings.

Corrective actions include repair or replacement of the hydraulic pressure hoses and electrical wiring with new hydraulic pressure hoses and electrical wiring. You may obtain further information by examining the MCAI in the AD docket.

Relevant Service Information

Airbus has issued All Operators Telex A310-29A2101, Revision 01, dated April 12, 2011; and All Operators Telex A310-29A2102, dated April 12, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 58 products of U.S. registry. We also estimate that it would take about 2 work-hours per product to comply with the basic requirements of this proposed AD. The average labor rate is $85 per work-hour. Required parts would cost about $200 per product. Where the service information lists required parts costs that are covered under warranty, we have assumed that there will be no charge for these parts. As we do not control warranty coverage for affected parties, some parties may incur costs higher than estimated here. Based on these figures, we estimate the cost of the proposed AD on U.S. operators to be $21,460, or $370 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0033; Directorate Identifier 2011-NM-086-AD.

(a) Comments Due Date

We must receive comments by March 5, 2012.

(b) Affected ADs

None.

(c) Applicability

This AD applies to Airbus Model A310-203, -204, -221, -222, -304, -322, -324, and -325 airplanes, certificated in any category, all serial numbers.

(d) Subject

Air Transport Association (ATA) of America Code 29: Hydraulic Power.

(e) Reason

This AD was prompted by a report of an electrical arc and hydraulic haze in the wheel bay of the left-hand main landing gear (MLG) possibly resulting from chafing between the hydraulic high pressure hose and electrical wiring of the green electrical motor pump (EMP). We are issuing this AD to detect and correct chafing of hydraulic pressure hoses and electrical wiring of the green EMPs, which in combination with a system failure, could cause an uncontrolled and undetected fire in the MLG bay.

(f) Compliance

You are responsible for having the actions required by this AD performed within the compliance times specified, unless the actions have already been done.

(g) Installing Placard and Revising Airplane Flight Manual

For all airplanes, as of the effective date of this AD, the in-flight use of green EMPs is prohibited. Before the next flight, do the actions specified in paragraphs (g)(1) and (g)(2) of this AD.

(1) Install in the cockpit on the hydraulic power overhead panel 427VU, a locally manufactured self-adhesive placard prohibiting the in-flight use of the green EMPs, in accordance with the instructions in Airbus All Operators Telex A310-29A2101, Revision 01, dated April 12, 2011 (for airplanes equipped with EATON (formerly VICKERS) hydraulic EMPs); or Airbus All Operators Telex A310-29A2102, dated April 12, 2011 (for airplanes equipped with PARKER (formerly ABEX) hydraulic EMPs).

(2) Revise the Limitations section of the applicable airplane flight manual (AFM) to prohibit the in-flight use of the green EMPs.

Note 1: Inserting a copy of this AD into the AFM Limitations section is acceptable for complying with the requirement of paragraph (g)(2) of this AD.

(h) Inspecting for Damage and Chafing

Within 500 flight hours or 4 months after the effective date of this AD, whichever occurs first, do a one-time general visual inspection for correct condition (i.e., no damage and no chafing) and correct installation of the hydraulic pressure hoses, electrical conduits, feeder cables, and associated clamping devices at frame 54, as well as the electrical conduits and feeder cables underneath the clamps (including removal of the concerned clamps), in accordance with the instructions in Airbus All Operators Telex A310-29A2101, Revision 01, dated April 12, 2011 (for airplanes equipped with EATON (formerly VICKERS) hydraulic EMPs); or Airbus All Operators Telex A310-29A2102, dated April 12, 2011 (for airplanes equipped with PARKER (formerly ABEX) hydraulic EMPs). If any incorrect installation is found, before further flight, install the affected parts correctly, in accordance with Airbus All Operators Telex A310-29A2101, Revision 01, dated April 12, 2011 (for airplanes equipped with EATON (formerly VICKERS) hydraulic EMPs); or Airbus All Operators Telex A310-29A2102, dated April 12, 2011 (for airplanes equipped with PARKER (formerly ABEX) hydraulic EMPs).

(1) If any damage or chafing marks are found during the inspection required by paragraph (h) of this AD, before further flight, replace or repair the affected parts (hydraulic pressure hoses, electrical conduits, feeder cables, clamps, and spacer, if installed), in accordance with the instructions in Airbus All Operators Telex A310-29A2101, Revision 01, dated April 12, 2011 (for airplanes equipped with EATON (formerly VICKERS) hydraulic EMPs); or Airbus All Operators Telex A310-29A2102, dated April 12, 2011 (for airplanes equipped with PARKER (formerly ABEX) hydraulic EMPs).

(2) Before further flight after compliance with the requirements of paragraph (h) of this AD, as applicable, remove the placard required by paragraph (g)(1) of this AD; and remove the revision of the Limitations section of the AFM, as required by paragraph (g)(2) of this AD; from the airplane and the AFM, respectively.

(i) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to Attn: Dan Rodina, Aerospace Engineer, International Branch, ANM-116, Transport Airplane Directorate, FAA, 1601 Lind Avenue SW., Renton, Washington 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI EASA Airworthiness Directive 2011-0071, dated April 18, 2011; Airbus All Operators Telex A310-29A2101, Revision 01, dated April 12, 2011; and Airbus All Operators Telex A310-29A2102, dated April 12, 2011; for related information.

Issued in Renton, Washington, on January 13, 2012.
John Piccola,
Acting Manager, Transport Airplane Directorate, Aircraft Certification Service.

[FR Doc. 2012-1131 Filed 1-19-12; 8:45 am]

BILLING CODE 4910-13-P